ENVIRONMENTAL PROTECTION AGENCY

[OECA-2003-0019; FRL-7598-3]

Agency Information Collection Activities; Submission to OMB for Review and Approval; Comment Request; NSPS for Standards of Performance for Storage Vessels for Petroleum Liquids for Which Construction, Reconstruction or Modification Commenced After June 11, 1973, and Prior to May 19, 1978 (40 CFR Part 60, Subpart K), EPA ICR Number 1797.03, OMB Control Number 2060-0442

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on January 31, 2004. Under OMB regulations, the Agency may continue to conduct or sponsor the collection of information while this submission is pending at OMB. This ICR describes the nature of the information collection and its estimated burden and cost.

DATES: Additional comments may be submitted on or before January 12, 2004.

ADDRESSES: Submit your comments, referencing docket ID number OECA-2003-0019, to (1) EPA online using EDOCKET (our preferred method), by e-mail to docket.oeca@epa.gov, or by mail to: EPA Docket Center, Environmental Protection Agency, Enforcement and Compliance Docket and Information Center, Mail Code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Rafael Sanchez, Compliance Assurance and Monitoring Programs Division, Office of Compliance, Mail Code 2223A, Environmental Protection Agency, 1200 Pennsylvania Ave., NW., Washington, DC 20460; telephone number: (202) 564-7028; fax number: (202) 564-0050; e-mail address: sanchez.rafael@epa.gov.

SUPPLEMENTARY INFORMATION: EPA has submitted the following ICR to OMB for review and approval according to the procedures prescribed in 5 CFR 1320.12. On May 19, 2003 (68 FR 27059), EPA sought comments on this ICR pursuant to 5 CFR 1320.8(d). EPA received no comments.

EPA has established a public docket for this ICR under Docket ID No. OECA-2003-0019, which is available for public viewing at the Enforcement and Compliance Docket and Information Center in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket and Information Center is (202) 566-1514. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: NSPS for Standards of Performance for Storage Vessels for Petroleum Liquids for Which Construction, Reconstruction or Modification Commenced after June 11, 1973, and Prior to May 19, 1978 (40 CFR Part 60, Subpart K).

Abstract: The New Source Performance Standards (NSPS) for the regulations published at 40 CFR part 60, subpart K were proposed on June 11, 1973, and promulgated on March 8, 1974. These regulations apply to facilities in 40 CFR part 60, subpart K that store petroleum liquids in: storage vessels with petroleum liquids which have a storage capacity greater than 151,416 liters (40,000 gallons), and for which construction commenced after June 11, 1973, and prior to May 19, 1978; storage vessels greater than 151,416 liters (40,000 gallons) but not exceeding 246,052 liters (65,000 gallons), and where construction or modification commenced after March 8, 1974, and prior to May 19, 1978; storage vessels that have a capacity greater than 246,052 liters (65,000 gallons), and where construction or modification commenced after June 11, 1973, and prior to May 19, 1978. Affected facilities report only if a storage vessel is no longer subject to 40 CFR part 60, subpart K and will now be subject to the current storage vessel standard, 40 CFR part 60, subpart Kb. The subpart K standards also require the owner/operator to document (recordkeeping) the activities of the storage period, the maximum true vapor pressure, and the type of petroleum liquid stored. This information is recorded only when a petroleum liquid is changed in the storage vessel. Facilities that are not subject to the Standards of Performance for Storage Vessels for Petroleum Liquids, 40 CFR part 60, subpart K, are storage vessels of petroleum or condensate stored, processed, and/or treated at a drilling and production facility prior to custody transfer.

Responses to this information collection are deemed to be mandatory, per section 114(a) of the Clean Air Act. The required information consists of emissions data and other information that have been determined not to be private. However, any information submitted to the Agency for which a claim of confidentiality is made will be safeguarded according to the Agency policies set forth in title 40, chapter 1, part 2, subpart B—Confidentiality of Business Information (see 40 CFR part 2; 41 FR 36902, September 1, 1976; amended by 43 FR 40000, September 8, 1978; 43 FR 42251, September 20, 1978; 44 FR 17674, March 23, 1979).

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 3 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners or operators of facilities that store petroleum liquids for which construction, reconstruction or modification commenced after June 11, 1973, and prior to May 19, 1978.

Estimated Number of Respondents: 220.

Frequency of Response: On occasion.

Estimated Total Annual Hour Burden: 669 hours.

Estimated Total Annual Cost: $43,000, includes $0 annualized capital/startup costs, $0 annual O&M costs, and $43,000 labor costs.

Changes in the Estimates: There is a decrease of 9 hours in the total estimated burden currently identified in the OMB Inventory of Approved ICR Burdens. This decrease in burden from the most recently approved ICR is due to an adjustment. Calculation errors from the previous ICR in reference to the number of respondents were corrected in this ICR.

Dated: December 2, 2003.
Doreen Sterling,
Acting Director, Collection Strategies Division.

[FR Doc. 03-30707 Filed 12-10-03; 8:45 am]

BILLING CODE 6560-50-P